DEPARTMENT OF ENERGY

Federal Energy Regulatory Commission

[Docket No. AD09-4-000]

Integrating Renewable Resources Into the Wholesale Electric Grid: Supplemental Notice of Technical Conference

February 20, 2009.

In a Notice of Technical Conference issued February 4, 2009, the Federal Energy Regulatory Commission announced that it would host a technical conference on March 2, 2009, from 9 a.m. to 5 p.m. (EST) in the Commission Meeting Room at the Federal Energy Regulatory Commission, 888 First Street, NE., Washington, DC 20426. The conference will be open for the public to attend and advance registration is not required. Members of the Commission will attend and participate in the conference.

The purpose of this conference is to seek information on the challenges posed by integration of large amounts of variable renewable generation into wholesale markets and grids as well as on innovative solutions to these challenges. Attached with this supplemental notice is an agenda with a list of questions for the panel discussions and the names of panelists.

The Commission welcomes industry comments on this subject. The deadline for comments under this docket is April 30, 2009.

A free webcast of the meeting/conference is available through http://www.ferc.gov. Anyone with Internet access who desires to listen to this event can do so by navigating to http://www.ferc.gov's Calendar of Events and locating this event in the Calendar. The event will contain a link to its webcast. The Capitol Connection provides technical support for the webcasts and offers the option of listening to the meeting via phone-bridge for a fee. If you have any questions, visit http://www.CapitolConnection.org or call 703-993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or (202) 208-1659 (TTY), or send a FAX to 202-208-2106 with the required accommodations.

For more information about this conference, please contact: Sarah McKinley at sarah.mckinley@ferc.gov, (202) 502-8368.

Kimberly D. Bose,
Secretary.

[FR Doc. E9-4180 Filed 2-26-09; 8:45 am]

BILLING CODE 6717-01-P